DEPARTMENT OF THE INTERIOR

Bureau of Land Management

[UT-910-06-1120-PH-24-1A]

Notice of Utah Resource Advisory Council Meeting

AGENCY: Bureau of Land Management, Department of Interior.

ACTION: Notice of Utah Resource Advisory Council (RAC) Meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah Resource Advisory Council (RAC) will meet March 23, 2006 from 9 a.m. until 5 p.m., and from 8:30 a.m. until 2 p.m., on March 24, 2006 in Wayne County, Utah.

ADDRESSES: On March 23, the Utah BLM Resource Advisory Council meet at the parking area on Factory Bench Road near the Highway 24 turn-off for a field tour of the Factory Butte area. On March 24, the RAC will be meeting at the Civic Center, 90 West Center, in Loa, Utah.

FOR FURTHER INFORMATION CONTACT: Sherry Foot, Special Programs Coordinator, Utah State Office, Bureau of Land Management, P.O. Box 45155, Salt Lake City, Utah, 84145-0155; phone (801) 539-4195.

SUPPLEMENTARY INFORMATION: On March 23, 2006, the RAC will be taking a field tour with its Factory Butte RAC subcommittee to look at OHV-related issues in the Factory Butte area, including possible open-use areas under the Resource Management Plan now being updated for the Richfield Field Office. The RAC is planning stops on the field trip at Swing Arm City, Neilson Wash, the Pinnacles, Skyline Rim Overlook, Salt Wash, Lower Blue Hills, Notom Road, and possibly other points of interest (weather permitting). On March 24, the RAC will be meeting in Loa to hear status information and reporting from its Factory Butte RAC subcommittee. The Factory Butte RAC subcommittee has been meeting periodically since July 2005 examining OHV-related issues in the Factory Butte area, including possible recommendations to the RAC on future designation of open-use areas near Factory Butte. A public comment period, where members of the public may address the RAC, is scheduled from 12:30 p.m. until 2 p.m. Written comments may be sent to the Bureau of Land Management address listed above. All meetings are open to the public; however, transportation, lodging, and meals are the responsibility of the participating public.

Dated: February 14, 2006.
Gene R. Terland,
Acting, State Director.

[FR Doc. E6-2753 Filed 2-27-06; 8:45 am]

BILLING CODE 4310-DK-P